DEPARTMENT OF HOUSING AND URBAN DEVELOPMENT

[Docket No. FR-5415-FA-30]

Announcement of Funding Awards for the Technical Assistance and Capacity Building under the Transformation Initiative Program Fiscal Year 2010

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Technical Assistance and Capacity Building under the Transformation Initiative program for fiscal year 2010. This announcement contains the names of the awardees and amounts of the awards made available by HUD.

FOR FURTHER INFORMATION CONTACT: Holly A. Kelly, Acting Director, Technical Assistance Division, Office of Community Planning and Development, 451 Seventh Street, SW., Room 7218, Washington, DC 20410-7000; telephone (202) 402-6324 (this is not a toll-free number). Persons with speech or hearing impairments may access this telephone number via TTY by calling the toll-free Federal Information Relay Service during working hours at 800-877-8339. For general information on this and other HUD programs, call Community Connections at 1-800-998-9999 or visit the HUD Web site at http://www.hud.gov.

SUPPLEMENTARY INFORMATION: The Fiscal Year 2010 Technical Assistance and Capacity Building under the Transformation Initiative program funds were awarded under two funding categories:

OneCPD

The purpose of OneCPD is to provide state government, local government and nonprofit recipients of federal community development, affordable housing, economic development and special needs funding with the assessment tools and technical and capacity building assistance needed to fully understand their local market conditions, to increase their capacity to successfully carry out federal assistance programs while leveraging other public and private resources, and to achieve positive and measurable outcomes. Under OneCPD, technical assistance will involve the delivery of expert statutory, regulatory, and technical support that improves the program knowledge, skills and capacity of CPD's grantees and their partners. Capacity building efforts will be directed at advancing the efficiency and performance of grantees and their partners (e.g., for-profit and public or private non-profit organizations) in the administration of federal affordable housing, community and economic development programs, the leveraging of other resources and the furthering of key Departmental objectives, including but not limited to, energy efficiency and green building.

Core Curricula

The purpose of the HUD Core Curricula for Skills-Based Training is to develop and deliver training courses and seminars to improve the core skills of HUD grantee staff commonly needed for the administration of many HUD programs. Funds will be awarded to develop “core curricula” in the several areas including (1) Development Finance, (2) Environmental Review and Compliance, (3) Asset Management and Preservation of HUD-Assisted Projects and (4) Construction and Rehabilitation Management.

The competition was announced in the NOFA published on January 4, 2011 (FR-5415-N-30) and closed on February 24, 2011. The NOFA allowed for approximately $24 million for OneCPD and Core Curricula awards. Applications were rated and selected for funding on the basis of selection criteria contained in the Notice. For the Fiscal Year 2010 competition, 17 awards totaling $23,303,000 were awarded to 13 different technical assistance providers nationwide.

In accordance with section 102(a)(4)(C) of the Department of Housing and Urban Development Reform Act of 1989 (103 Stat. 1987, 42 U.S.C. 3545), the Department is publishing the grantees and the amounts of the awards in Appendix A to this document.

Dated: May 31, 2011.
Clifford Taffet,
General Deputy Assistant Secretary for Community Planning and Development.

Appendix A
Recipient | State | Amount
OneCPD
Cloudburst Consulting Group Inc | MD | $4,515,500
Corporation for Supportive Housing | NY | 125,000
Dennison Associates, Inc | DC | 200,000
Econometrica, Inc | MD | 500,000
Enterprise Community Partners, Inc | MD | 4,599,000
First Nations Development Institute | CO | 100,000
Housing Assistance Council | DC | 650,000
ICF Incorporated, L.L.C | VA | 4,224,000
Minnesota Housing Partnership | MN | 750,000
National Association for Latino Community Asset Builders | TX | 900,000
National Center on Family Homelessness, Inc | MA | 700,000
Training & Development Associates, Inc | NC | 5,094,500
University of Texas-Pan American | TX | 350,000
Total Awarded for OneCPD |  | 22,708,000
Core Curricula
Cloudburst Consulting Group Inc | MD | 93,573
ICF Incorporated, L.L.C | VA | 148,750
ICF Incorporated, L.L.C | VA | 148,750
Training & Development Associates, Inc | NC | 203,927
Total Awarded for Core Curricula |  | 595,000
Total Awarded for Technical Assistance and Capacity Building |  | 23,303,000

[FR Doc. 2011-14122 Filed 6-7-11; 8:45 am]

BILLING CODE 4210-67-P